DEPARTMENT OF ENERGY

Federal Energy Regulatory Commission

[Docket Nos. EG10-65-000; EG10-66-000; EG10-67-000; EG10-68-000; EG10-69-000; EG10-70-000; EG10-71-000]

Top of the World Wind Energy, LLC; Kit Carson Windpower, LLC; Chestnut Flats Wind, LLC; Minco Wind, LLC; Arizona Solar One LLC; Criterion Power Partners, LLC; Sundevil Power Holdings, LLC; Notice of Effectiveness of Exempt Wholesale Generator Status

December 1, 2010.

Take notice that during the month of November 2010, the status of the above-captioned entities as Exempt Wholesale Generators became effective by operation of the Commission's regulations. 18 CFR 366.7(a) (2010).

Kimberly D. Bose,
Secretary.

[FR Doc. 2010-30752 Filed 12-7-10; 8:45 am]

BILLING CODE 6717-01-P